NATIONAL ARCHIVES AND RECORDS ADMINISTRATION

[NARA-2015-047]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize agencies to preserve records of continuing value in the National Archives of the United States and to destroy, after a specified period, records lacking administrative, legal, research, or other value. NARA publishes notice for records schedules in which agencies propose to destroy records not previously authorized for disposal or reduce the retention period of records already authorized for disposal. NARA invites public comments on such records schedules, as required by 44 U.S.C. 3303a(a).

DATES: NARA must receive requests for copies in writing by July 17, 2015. Once NARA completes appraisal of the records, we will send you a copy of the schedule you requested. We usually prepare appraisal memoranda that contain additional information concerning the records covered by a proposed schedule. You may also request these. If you do, we will also provide them once we have completed the appraisal. You have 30 days after we send these requested documents in which to submit comments.

ADDRESSES: You may request a copy of any records schedule identified in this notice by contacting Records Management Services (ACNR) using one of the following means:

Mail: NARA (ACNR); 8601 Adelphi Road; College Park, MD 20740-6001.

Email: request.schedule@nara.gov.

FAX: 301-837-3698.

You must cite the control number, which appears in parentheses after the name of the agency which submitted the schedule, and a mailing address. If you would like an appraisal report, please include that in your request.

FOR FURTHER INFORMATION CONTACT: Margaret Hawkins, Director, by mail at Records Management Services (ACNR); National Archives and Records Administration; 8601 Adelphi Road; College Park, MD 20740-6001, by phone at 301-837-1799, or by email at request.schedule@nara.gov.

SUPPLEMENTARY INFORMATION: Each year, Federal agencies create billions of records on paper, film, magnetic tape, and other media. To control this accumulation, agency records managers prepare schedules proposing retention periods for types of records and submit these schedules for NARA's approval. These schedules allow timely transfer into the National Archives of historically valuable records and authorize agencies to dispose of all other records after the agencies no longer need them to conduct business. Some schedules are comprehensive and cover all the records of an agency or one of its major subdivisions. Most schedules, however, cover records of only one office or program or a few series of records. Many of these update previously approved schedules, and some include records proposed as permanent.

The schedules listed in this notice are media-neutral unless otherwise specified. An item in a schedule is media-neutral when an agency may apply the disposition instructions to records regardless of the medium in which it has created or maintains the records. Items included in schedules submitted to NARA on or after December 17, 2007, are media-neutral unless the item is limited to a specific medium. (See 36 CFR 1225.12(e).)

No agencies may destroy Federal records without the approval of the Archivist of the United States. The Archivist grants this approval only after a thorough consideration of the records' administrative use by the agency of origin, the rights of the Government and of people directly affected by the Government's activities, and whether or not the records have historical or other value.

In addition to identifying the Federal agencies and any subdivisions requesting disposition authority, this notice lists the organizational unit(s) accumulating the records or that the schedule has agency-wide applicability (in the case of schedules that cover records that may be accumulated throughout an agency), provides the control number assigned to each schedule, the total number of schedule items, and the number of temporary items (the records proposed for destruction), and includes a brief description of the temporary records. The records schedule itself contains a full description of the records at the file unit level as well as their disposition. If NARA staff has prepared an appraisal memorandum for the schedule, it too includes information about the records. You may request additional information about the disposition process at the addresses above.

Schedules Pending

1. Department of the Army, Agency-wide (DAA-AU-2015-0019, 1 item, 1 temporary item). Master files of an electronic information system used to track professional development training of individuals selected to participate in a mentorship program.

2. Department of the Army, Agency-wide (DAA-AU-2015-0024, 1 item, 1 temporary item). Master files of an electronic information system used to manage equipment maintenance and logistics activity at the depot level.

3. Department of the Army, Agency-wide (DAA-AU-2015-0026, 1 item, 1 temporary item). Master files of an electronic information system used to track maintenance and supply operations for unmanned aircraft systems.

4. Department of Defense, Defense Contract Audit Agency (DAA-0372-2014-0001, 1 item, 1 temporary item). Master files of an electronic information system used to manage contract audit operations.

5. Department of Defense, Defense Threat Reduction Agency (DAA-0374-2014-0038, 1 item, 1 temporary item). Supply procurement and classification records.

6. Department of Defense, National Security Agency (DAA-0457-2015-0001, 1 item, 1 temporary item). Records related to staff access to data repositories.

7. Department of Health and Human Services, Assistant Secretary for Preparedness and Response (DAA-0468-2015-0001, 5 items, 3 temporary items). Public health policy background materials, working files, and stakeholder engagement records. Proposed for permanent retention are official public health policies, plans, final reports, and significant public health committee records.

8. Department of the Interior, Bureau of Ocean Energy Management (N1-589-12-3, 17 items, 15 temporary items). Records include geological and geophysical supporting data, fair market value studies, resource assessments, bid appeals, permits, hydrocarbon reserve projections, well productions monitoring files, and administrative records. Proposed for permanent retention are final maps and interpretive products, reserve estimates, and engineering and economic interpretations and reports for the analysis and evaluation of Outer Continental Shelf minerals and other resources.

9. Consumer Financial Protection Bureau, Office of Fair Lending and Equal Opportunity (DAA-0587-2014-0003, 14 items, 11 temporary items). Records include administrative reports, research materials, training materials, and routine enforcement files. Proposed for permanent retention are historic enforcement files, external reports, and policy documents.

10. Court Services and Offenders Supervision Agency for the District of Columbia, Community Supervision Services (DAA-0562-2013-0022, 2 items, 2 temporary items). Sex offender registry records.

11. National Archives and Records Administration, Government-wide (DAA-GRS-2015-0003, 3 items, 3 temporary items). General Records Schedule for library records, including administrative records, operations records, and inter-library loan records.

12. Office of the Director of National Intelligence, Front Office (N1-576-11-2, 8 items, 4 temporary items). Speech files and records related to routine financial activities. Proposed for permanent retention are significant financial records and files of senior leadership, including trip files, briefing books, and emails.

13. Peace Corps, Office of the Director (DAA-0490-2015-0002, 1 item, 1 temporary item). Records of the Office of Innovation including research notes and copies of publications and press releases.

Dated: June 10, 2015.
Laurence Brewer,
Director, National Records Management Program.

[FR Doc. 2015-14923 Filed 6-16-15; 8:45 am]

BILLING CODE 7515-01-P